DEPARTMENT OF LABOR

Employment and Training Administration

[TA-W-53,522]

Avery Dennison, Office Products Group, Flowery Branch, GA; Notice of Termination of Investigation

Pursuant to section 221 of the Trade Act of 1974, an investigation was initiated on November 13, 2003, in response to a worker petition which was filed by a company official on behalf of workers at Avery Dennison, Office Products Group, Flowery Branch, Georgia.

The petitioner has requested that the petition be withdrawn. Consequently, further investigation in this case would serve no purpose, and the investigation has been terminated.

Signed in Washington, DC, this 8th day of December, 2003.
Linda G. Poole,
Certifying Officer, Division of Trade Adjustment Assistance.

[FR Doc. 03-31459 Filed 12-19-03; 8:45 am]

BILLING CODE 4510-30-P